FEDERAL EMERGENCY MANAGEMENT AGENCY

Guidance for the Use of Portable (Hand-Held) Radiological Instruments

AGENCY: Federal Emergency Management Agency (FEMA).

ACTION: Notice of availability of final guidance.

SUMMARY: We (FEMA) have developed the final guidance for the use of portable (hand-held) radiological instruments, identified as FEMA-REP-22, for the detection of radioactive contamination on persons in association with peacetime nuclear accidents. Three documents pertaining to the final guidance are available for use.

ADDRESSES: You may obtain copies of the final guidance documents from the FEMA Distribution Center, (800) 480-2520, or www.fema.gov/rrr/rep/fr.shtm.

FOR FURTHER INFORMATION CONTACT: William F. McNutt, Federal Emergency Management Agency, 500 C Street, SW., Washington, DC 20472, (202) 646-2857, or (e-mail) william.mcnutt@fema.gov.

SUPPLEMENTARY INFORMATION: The three available documents are:

(a) Contamination Monitoring Guidance for Portable Instruments Used for Radiological Emergency Response to Nuclear Power Plant Accidents, FEMA-REP-22, (12 pages);

(b) Background Information on Contamination Monitoring Guidance for Portable Instruments Used for Radiological Emergency Response to Nuclear Power Plant Accidents (62 pages); and

(c) Statements of Consideration for Contamination Monitoring Guidance for Portable Instruments Used for Radiological Emergency Response to Nuclear Power Plant Accidents (12 pages).

We developed this guidance in response to a request from the Conference of Radiation Control Program Directors (CRCPD). The CRCPD asked us to develop portable instrument guidance that affords protection to the public equivalent to the portal monitor standard (FEMA-REP-21) that we established and published in the Federal Register on March 23, 1995 (60 FR 15290-15291).

We worked through the Federal Radiological Preparedness Coordinating Committee (FRPCC) and its Offsite Emergency Instrumentation Subcommittee to develop and coordinate the portal monitor standard and the guidance for portable instruments. We chair the FRPCC and, with the Department of Energy, co-chair the Offsite Emergency Instrumentation Subcommittee, which includes members from several Federal agencies. Members of the CRCPD's E-6 Committee (composed of State radiological health officials) participated in meetings of this Subcommittee as ex-officio members. We made the draft guidance available to FEMA Regional staff, CRCPD constituents in all 50 States and the general public for review and comment. We have addressed and resolved their comments.

While we developed only one standard for portal monitors, we developed guidance for four (4) types of portable instruments because of the instrument-specific factors that influence the manner in which radiation is detected and measured. We developed the guidance for portable instruments through extensive empirical tests of different portable radiological instruments currently in use today by State and local government personnel. Despite instrument-specific differences between portal monitors and portable instruments, use of this guidance will afford protection to individuals equivalent to that afforded by the portal monitor standard.

Based on extensive consultation with Federal and State officials, the primary issue involving this guidance is the extended period of time required to monitor an individual adequately with some types of portable radiological instruments. Empirical studies undertaken since 1991 have substantiated per-person monitoring time frames for different types of radiological instruments ranging from 2.6 minutes to as high as 19 minutes (for a CD V-700 with standard GM side window probe) for total body scans to detect spot contamination. The planning criterion for monitoring individuals using a portable CD V-700 radiation survey instrument is 300 counts per minute (CPM) above background levels.

The range of times required to monitor individuals is critical, as is the need for State and local governments to provide sufficient resources to monitor at least 20% of the plume exposure pathway emergency planning zone (EPZ) population in about twelve (12) hours. This may require State and local governments with certain types of radiological instruments to re-examine their radiological emergency planning and preparedness for accidents involving commercial nuclear power plants. This issue is extensively documented and addressed in the three documents previously cited, and we provide suggestions on how State and local governments may address this issue and related resource requirements.

Dated: February 4, 2003.
Joe M. Allbaugh,
Director.

[FR Doc. 03-3185 Filed 2-7-03; 8:45 am]

BILLING CODE 6718-01-P